DEPARTMENT OF COMMERCE

International Trade Administration

[C-122-858]

Certain Softwood Lumber Products From Canada: Preliminary Results and Partial Rescission of Countervailing Duty Administrative Review; 2023

AGENCY: Enforcement and Compliance, International Trade Administration, Department of Commerce.

SUMMARY: The U.S. Department of Commerce (Commerce) preliminarily determines that countervailable subsidies were being provided to producers and exporters of certain softwood lumber products (softwood lumber) from Canada during the period of review (POR), January 1, 2023, through December 31, 2023. Commerce is also rescinding this review with respect to 46 companies. Interested parties are invited to comment on these preliminary results.

DATES: Applicable April 9, 2025.

FOR FURTHER INFORMATION CONTACT: Samuel Brummitt, Kristen Johnson, and T.J. Worthington, AD/CVD Operations, Office III, Enforcement and Compliance, International Trade Administration, U.S. Department of Commerce, 1401 Constitution Avenue NW, Washington, DC 20230; telephone: (202) 482-7851, (202) 482-4793, and (202) 482-4567, respectively.

SUPPLEMENTARY INFORMATION:

Background

On January 3, 2018, Commerce published the countervailing duty (CVD) order on softwood lumber from Canada in the Federal Register.¹ Several interested parties requested that Commerce conduct an administrative review of the Order and, on March 5, 2024, Commerce published in the Federal Register a notice of initiation of the fifth administrative review.² On April 19, 2024, Commerce selected Canfor Corporation (Canfor) and West Fraser Mills Ltd. (West Fraser) as the mandatory respondents in the administrative review.³

¹ See Certain Softwood Lumber Products from Canada: Amended Final Affirmative Countervailing Duty Determination and Countervailing Duty Order, 83 FR 347 (January 3, 2018) (Order).

² See Initiation of Antidumping and Countervailing Duty Administrative Reviews, 89 FR 15827 (March 5, 2024) (Initiation Notice); see also Initiation of Antidumping and Countervailing Duty Administrative Reviews, 89 FR 24780, 24797, 24802 (April 9, 2024), where Commerce corrected the Initiation Notice to remove Portbec Forest Products Ltd (aka Les Produits Forestiers Portbec Ltee) from the administrative review.

³ See Memorandum, “Respondent Selection,” dated April 19, 2024.

On July 22, 2024, Commerce tolled certain deadlines in this administrative proceeding by seven days.⁴ On September 17, 2024, Commerce extended the deadline for the preliminary results of this administrative review from October 9, 2024,⁵ to February 6, 2025, in accordance with 19 CFR 351.213(h)(2).⁶ Additionally, on December 9, 2024, Commerce tolled the deadline to issue the preliminary results in this administrative review by 90 days.⁷ Accordingly, the deadline for these preliminary results is now May 7, 2025.

⁴ See Memorandum, “Tolling of Deadlines for Antidumping and Countervailing Duty Proceedings,” dated July 22, 2024.

⁵ Inclusive of the 7-day deadline toll.

⁶ See Memorandum, “Extension of Deadline for Preliminary Results of Countervailing Duty Administrative Review, 2023,” dated September 17, 2024.

⁷ See Memorandum, “Tolling of Deadlines for Antidumping and Countervailing Duty Proceedings,” dated December 9, 2024.

For a complete description of the events that followed the initiation of this review, see the Preliminary Decision Memorandum.⁸ A list of topics discussed in the Preliminary Decision Memorandum is included in Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁸ See Memorandum, “Decision Memorandum for the Preliminary Results of Administrative Review of the Countervailing Duty Order on Certain Softwood Lumber Products from Canada; 2023,” dated concurrently with, and hereby adopted by, this notice (Preliminary Decision Memorandum).

Scope of the Order

The products covered by this order are certain softwood lumber products from Canada. For a complete description of the scope of the Order, see the Preliminary Decision Memorandum.

Rescission of Administrative Review, in Part

Pursuant to 19 CFR 351.213(d)(3), it is Commerce's practice to rescind an administrative review of a CVD order where it concludes that there were no reviewable entries of subject merchandise during the POR for an exporter or producer. Normally, upon completion of an administrative review, the suspended entries are liquidated at the CVD assessment rate for the review period.⁹ Therefore, for an administrative review to be conducted, there must be a reviewable, suspended entry that Commerce can instruct U.S. Customs and Border Protection (CBP) to liquidate at the calculated CVD assessment rate for the review period.¹⁰

⁹ See 19 CFR 351.212(b)(2).

¹⁰ See 19 CFR 351.213(d)(3).

Based on our analysis of CBP data and comments received from interested parties, we determine that 46 producers/exporters, for which a review had been requested, had no reviewable shipments, sales, or entries of subject merchandise during the POR. Accordingly, absent evidence of a shipment on the record, Commerce is rescinding the administrative review of the following companies, pursuant to 19 CFR 351.213(d)(3):

1. 9224-5737 Quebec Inc. (aka A.G. Bois)

2. All American Forest Products Inc.

3. Anglo-American Cedar Products, Ltd.

4. Bardobec Inc.

5. Best Quality Cedar Products Ltd.

6. Campbell River Shake & Shingle Co., Ltd.

7. CarlWood Lumber Ltd.

8. Cedar Valley Holdings Ltd.

9. Central Alberta Pallet Supply

10. Chaleur Forest Products LP

11. Coast Clear Wood Ltd.

12. Coast Mountain Cedar Products Ltd.

13. Comox Valley Shakes (2019) Ltd.

14. Coulson Manufacturing Ltd.

15. Distribution Rioux Inc.

16. Elrod Cartage Ltd.

17. Galloway Lumber Company Ltd.

18. Glandell Enterprises Inc.

19. Greenwell Resources Inc.

20. Groupe Lignarex inc.

21. Hy Mark Wood Products Inc.

22. Intertran Holdings Ltd., dba Richmond Terminal

23. Island Cedar Products Ltd

24. L'Atelier de Readaptation au travil de Beauce Inc.

25. Les Bois Traites M.G. Inc.

26. Millar Western Forest Products Ltd.

27. Pacific Pallet, Ltd.

28. Pat Power Forest Products Corporation

29. Prendiville Industries Ltd. (aka Kenora Forest Products)

30. Produits forestiers Temrex, s.e.c. (aka Temrex Forest Products LP)

31. Rayonier A.M. Canada GP

32. Rick Dubois

33. S&W Forest Products Ltd.

34. Silvaris Corporation

35. Source Forest Products

36. South Coast Reman Ltd.

37. South Fraser Container Terminals

38. Southcoast Millwork Ltd.

39. Suncoast Industries Inc.

40. Suncoh Custom Lumber Ltd.

41. Surplus G Rioux

42. Valley Cedar 2 Inc.

43. Waldun Forest Product Sales Ltd.

44. Watkins Sawmills Ltd.

45. West Coast Panel Cutters

46. Winton Homes Ltd.

For further information, see “Partial Rescission of Administrative Review” in the Preliminary Decision Memorandum.

Methodology

Commerce is conducting this CVD administrative review in accordance with section 751(a)(1)(A) of the Tariff Act of 1930, as amended (the Act). For each of the subsidy programs found countervailable, Commerce preliminarily determines that there is a subsidy, i.e., a financial contribution by an “authority” that confers a benefit to the recipient, and that the subsidy is specific.¹¹ For a full description of the methodology underlying our preliminary conclusions, see the Preliminary Decision Memorandum.

¹¹ See sections 771(5)(B) and (D) of the Act regarding financial contribution; section 771(5)(E) of the Act regarding benefit; and section 771(5A) of the Act regarding specificity.

Preliminary Rate for Non-Selected Companies Under Review

There are 245 companies for which a review was requested and not rescinded but were not selected as mandatory respondents. The statute and Commerce's regulations do not directly address the establishment of rates to be applied to companies not selected for individual examination where Commerce limits its examination in an administrative review pursuant to section 777A(e)(2) of the Act. However, Commerce normally determines the rates for non-selected companies in reviews in a manner that is consistent with section 705(c)(5) of the Act, which provides instructions for calculating the all-others rate in an investigation.

Section 705(c)(5)(A)(i) of the Act instructs Commerce, as a general rule, to calculate an all-others rate equal to the weighted average of the countervailable subsidy rates established for producers and/or exporters individually examined, excluding any zero, de minimis, or rates based entirely on facts available. In this review, Commerce calculated individual estimated countervailable subsidy rates for Canfor and West Fraser, the mandatory respondents, that are not zero, de minimis, or based entirely on facts available. Therefore, we calculated a subsidy rate for the non-selected companies by weight-averaging the preliminary subsidy rates calculated for Canfor and West Fraser using each company's publicly-ranged U.S. sales value for the subject merchandise during the POR. For further information on the calculation of the non-selected rate, see “Preliminary Ad Valorem Rate for Non-Selected Companies under Review” in the Preliminary Decision Memorandum. For a list of the non-selected companies, see Appendix II to this notice.

Preliminary Results of Review

For the period January 1, 2023, through December 31, 2023, we preliminarily determine the following estimated countervailable subsidy rates:

Companies | Subsidy rate (percent ad valorem)
Canfor Corporation and its cross-owned affiliates ¹² | 11.87
West Fraser Mills Ltd. and its cross-owned affiliates ¹³ | 16.57
Non-Selected Companies | 14.38

Disclosure

¹² Commerce finds the following companies to be cross-owned with Canfor Corporation: Canadian Forest Products, Ltd. and Canfor Wood Products Marketing, Ltd.

¹³ Commerce finds the following companies to be cross-owned with West Fraser Mills Ltd.: Blue Ridge Lumber Inc., Manning Forest Products, Ltd., Spray Lake Sawmills (1980) Ltd., Sundre Forest Products Inc., West Fraser Alberta Holdings, Ltd., and West Fraser Timber Co., Ltd.

Commerce intends to disclose its calculations performed to interested parties for these preliminary results within five days of the date of any public announcement or, if there is no public announcement, within five days of the date of publication of this notice in accordance with 19 CFR 351.224(b).

Public Comment

Case briefs or other written comments may be submitted to the Assistant Secretary for Enforcement and Compliance. Pursuant to 19 CFR 351.309(c)(1)(ii), we have modified the deadline for interested parties to submit case briefs to Commerce to no later than 21 days after the date of the publication of this notice.¹⁴ Rebuttal briefs, limited to issues raised in the case briefs, may be filed not later than five days after the date for filing case briefs.¹⁵ Interested parties who submit case briefs or rebuttal briefs in this proceeding must submit: (1) a table of contents listing each issue; and (2) a table of authorities.¹⁶

¹⁴ See 19 CFR 351.309.

¹⁵ See 19 CFR 351.309(d); see also Administrative Protective Order, Service, and Other Procedures in Antidumping and Countervailing Duty Proceedings, 88 FR 67069, 67077 (September 29, 2023) (APO and Final Service Rule).

¹⁶ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁷ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁸

¹⁷ We use the term “issue” here to describe an argument that Commerce would normally address in a comment of the Issues and Decision Memorandum.

¹⁸ See APO and Final Service Rule.

Pursuant to 19 CFR 351.310(c)(2), interested parties who wish to request a hearing, limited to issues raised in the case and rebuttal briefs, must do so within 21 days of publication of these preliminary results by submitting a written request to the Assistant Secretary for Enforcement and Compliance using ACCESS.¹⁹ Requests should contain: (1) the party's name, address, and telephone number; (2) the number of participants and whether any participant is a foreign national; and (3) a list of the issues to be discussed. If a request for a hearing is made, Commerce will inform parties of the scheduled date for the hearing.²⁰ Parties should confirm the date and time of the hearing two days before the scheduled date. Parties are reminded that all briefs and hearing requests must be filed electronically using ACCESS and received successfully, in their entirety, by 5:00 p.m. Eastern Time on the due date.

¹⁹ Commerce is exercising its discretion under 19 CFR 351.310(c) to alter the time limit for requesting a hearing.

²⁰ See 19 CFR 351.310(d).

Assessment Rates

In accordance with 19 CFR 351.221(b)(4)(i), Commerce has preliminarily assigned the subsidy rates as indicated above. Pursuant to section 751(a)(2)(C) of the Act, upon issuance of the final results, Commerce shall determine, and CBP shall assess, countervailing duties on all appropriate entries covered by this review. Commerce intends to issue assessment instructions to CBP no earlier than 41 days after the date of publication of the final results of this review in the Federal Register, in accordance with 19 CFR 356.8(a). If a timely summons is filed at the U.S. Court of International Trade, the assessment instructions will direct CBP not to liquidate relevant entries until the time for parties to file a request for statutory injunction has expired (i.e., within 90 days of publication).

For the companies for which this review is rescinded, Commerce will instruct CBP to assess countervailing duties on all appropriate entries at a rate equal to the cash deposit of estimated countervailing duties required at the time of entry, or withdrawal from warehouse, for consumption, during the period January 1, 2023, through December 31, 2023, in accordance with 19 CFR 351.212(c)(1)(i). Commerce intends to issue rescission instructions to CBP no earlier than 41 days after the date of publication of the notice of rescission in the Federal Register.

Cash Deposit Requirements

Pursuant to section 751(a)(1) of the Act, Commerce intends, upon publication of the final results, to instruct CBP to collect cash deposits of estimated countervailing duties in the amounts indicated above for each of the respective companies listed above and in Appendix II with regard to shipments of subject merchandise entered, or withdrawn from warehouse, for consumption on or after the date of publication of the final results of this review. For all non-reviewed companies, we will instruct CBP to collect cash deposits of estimated countervailing duties at the most recent company-specific or all-others rate applicable to the company, as appropriate. These cash deposit requirements, when imposed, shall remain in effect until further notice.

Final Results of Review

Unless the deadline is extended, Commerce intends to issue the final results of this administrative review, including the results of its analysis of the issues raised by parties in their comments, within 120 days of publication of these preliminary results in the Federal Register, pursuant to section 751(a)(3)(A) of the Act.

Notification to Interested Parties

We are issuing and publishing these preliminary results in accordance with sections 751(a)(1) and 777(i)(1) of the Act, and 19 CFR 351.221(b)(4).

Dated: April 3, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Period of Review

IV. Partial Rescission of Administrative Review

V. Scope of the Order

VI. Subsidies Valuation

VII. Analysis of Programs

VIII. Preliminary Ad Valorem Rate for Non-Selected Companies Under Review

IX. Recommendation

Appendix II

Non-Selected Companies

1. 0752615 B.C Ltd; Fraserview Remanufacturing Inc, dba Fraserview Cedar Products

2. 10104704 Manitoba Ltd O/A Woodstock Forest Products

3. 1074712 BC Ltd. (Quadra Cedar)

4. 5214875 Manitoba Ltd.; AM Lumber Brokerage

5. 54 Reman

6. Absolute Lumber Products, Ltd.

7. Adwood Manufacturing Ltd.

8. AJ Forest Products Ltd.

9. Aler Forest Products, Ltd.

10. Alpa Lumber Mills Inc.

11. Andersen Pacific Forest Products Ltd.

12. Antrim Cedar Corporation

13. Aquila Cedar Products Ltd.

14. Arbec Lumber Inc. (aka Arbec Bois Doeuvre Inc.)

15. Aspen Pacific Industries Inc.

16. Aspen Planers Ltd.

17. B&L Forest Products Ltd.

18. B.B. Pallets Inc. (aka Les Palettes B.B. Inc.)

19. Babine Forest Products Limited

20. Bakerview Forest Products Inc.

21. Barrette-Chapais Ltee

22. BarretteWood Inc.

23. Benoit & Dionne Produits Forestiers Ltee (aka Benoit & Dionne Forest Products Ltd.)

24. Blanchet Multi Concept Inc.

25. Blanchette & Blanchette Inc.

26. Bois Aise de Montreal Inc.

27. Bois Bonsai Inc.

28. Bois D'oeuvre Cedrico Inc. (aka Cedrico Lumber Inc.)

29. Bois Daaquam inc. (aka Daaquam Lumber Inc.)

30. Bois et Solutions Marketing SPEC, Inc. (aka SPEC Wood & Marketing Solution or SPEC Wood and Marketing Solutions Inc.)

31. Bois Weedon Inc.

32. Boisaco Inc.

33. Boscus Canada Inc.

34. Boucher Bros. Lumber Ltd.

35. BPWood Ltd.

36. Bramwood Forest Inc.

37. Brink Forest Products Ltd.

38. Brunswick Valley Lumber Inc.

39. Burrows Lumber (CD) Ltd., Theo A. Burrows Lumber Company Limited (aka Burrows Lumber Inc.)

40. Busque & Laflamme Inc.

41. Canadian Bavarian Millwork & Lumber Ltd.

42. Canasia Forest Industries Ltd.

43. Canyon Lumber Company, Ltd.

44. Carrier & Begin Inc.

45. Carrier Forest Products Ltd.

46. Carrier Lumber Ltd.

47. Carter Forest Products Inc.

48. Cedar Island Forest Products Ltd.

49. Cedarland Forest Products Ltd.

50. Cedarline Industries Ltd.

51. Central Cedar Ltd.

52. Central Forest Products Inc.

53. Centurion Lumber Ltd.

54. Chaleur Forest Products Inc.

55. Channel-ex Trading Corporation

56. CHAP Alliance Inc.

57. Chinook Wood Products Ltd.

58. Clair Industrial Development Corp. Ltd

59. Clermond Hamel Ltee

60. CLG Enterprises Inc.

61. CNH Products Inc.

62. Columbia River Shake & Shingle Ltd.; Teal Cedar Products Ltd., dba The Teal Jones Group

63. Commonwealth Plywood Co. Ltd.

64. Conifex Fibre Marketing Inc.

65. Cowichan Lumber Ltd.

66. CS Manufacturing Inc., dba Cedarshed

67. CWP—Montreal inc.

68. CWP Industriel Inc. (aka CWP—Industriel Inc.)

69. D & D Pallets Ltd.

70. Dakeryn Industries Ltd.

71. Decker Lake Forest Products Ltd.

72. Deep Cove Forest Products, Inc.

73. Delco Forest Products Ltd.

74. Delta Cedar Specialties Ltd.

75. Devon Lumber Co. Ltd.

76. DH Manufacturing Inc.

77. Direct Cedar Supplies Ltd.

78. Doubletree Forest Products Ltd.

79. Downie Timber Ltd.

80. Dunkley Lumber Ltd.

81. EACOM Timber Corporation

82. East Fraser Fiber Co. Ltd.

83. Edgewood Forest Products Inc.

84. ER Probyn Export Ltd.

85. Falcon Lumber Ltd.

86. Fontaine Inc.; Gestion Natanis Inc.; Les Placements Jean-Paul Fontaine Ltee; Placements Nicolas Fontaine Inc.

87. Foothills Forest Products Inc.

88. Fort St. James Forest Products Limited Partnership

89. Fraser Specialty Products Ltd.

90. FraserWood Industries Ltd.

91. Furtado Forest Products Ltd.

92. Gilbert Smith Forest Products Ltd.

93. Goldwood Industries Ltd.

94. Goodfellow Inc.

95. Gorman Bros. Lumber Ltd.

96. Greendale Industries Inc.

97. GreenFirst Forest Products (QC) Inc.

98. Griff Building Supplies Ltd.

99. Groupe Crete Chertsey Inc.

100. Groupe Crete Division St-Faustin Inc.

101. Groupe Lebel Inc.

102. H.J. Crabbe & Sons Ltd.

103. Haida Forest Products Ltd.

104. Halo Sawmill Manufacturing Limited Partnership

105. Hampton Tree Farms, LLC, dba Hampton Lumber Sales Canada

106. Hornepayne Lumber LP

107. Hudson Mitchell & Sons Lumber Inc.

108. Independent Building Materials Distribution Inc.

109. Interfor Corporation

110. Interfor Sales & Marketing Ltd.

111. Ivor Forest Products Ltd.

112. J&G Log Works Ltd.

113. J.D. Irving, Limited; Irving Paper Limited; Miramichi Timber Holdings Limited; Rothesay Paper Holdings Ltd.; St. George Pulp & Paper Limited; The New Brunswick Railway Company

114. J.H. Huscroft Ltd.

115. Jan Woodlands (2001) Inc.

116. Jasco Forest Products Ltd.

117. Jazz Forest Products Ltd.

118. Jhajj Lumber Corporation

119. Kalesnikoff Lumber Co. Ltd.

120. Kan Wood, Ltd.

121. Kebois Ltee/Ltd

122. Kelfor Industries Ltd.

123. Kermode Forest Products Ltd.

124. Keystone Timber Ltd.

125. Kings Wood Products Inc.

126. Kirkland Lake Forest Products Inc.

127. La Crete Sawmills Ltd.

128. Lafontaine Lumber Inc.

129. Langevin Forest Products Inc.

130. Lecours Lumber Co. Limited

131. Leisure Lumber Ltd.

132. Les Bardeaux Lajoie Inc.

133. Les Bois d'oeuvre Beaudoin Gauthier Inc.

134. Les Bois Martek Lumber

135. Les Chantiers de Chibougamau Ltd./Ltee

136. Les Industries P.F. Inc.

137. Les Produits Forestiers Sitka Inc. (aka Sitka Forest Products Inc.)

138. Leslie Forest Products Ltd.

139. Lignum Forest Products LLP

140. Linwood Homes Ltd.

141. Lonestar Lumber Inc.

142. Lulumco Inc.

143. Magnum Forest Products, Ltd.

144. Maibec Inc.

145. Mainland Sawmill, a division of Terminal Forest Products Ltd.

146. Manitou Forest Products Ltd.

147. Marwood Ltd.

148. Materiaux Blanchet Inc.

149. Metrie Canada Ltd.

150. Mid Valley Lumber Specialties Ltd.

151. Midway Lumber Mills Ltd.

152. Mill & Timber Products Ltd.

153. Mirax Lumber Products Ltd.

154. Mobilier Rustique (Beauce) Inc.; J.F.S.R. Inc.; Gestion C.A. Rancourt Inc.; Gestion J.F. Rancourt Inc.; Gestion Suzie Rancourt Inc.; Gestion P.H.Q. Inc.; 9331-3419 Quebec Inc.; 9331-3468 Quebec Inc.; SPQ Inc.

155. Monterra Lumber Mills Limited

156. Morwood Forest Products Inc.

157. Multicedre ltee

158. Murray Brothers Lumber Company Ltd

159. Nakina Lumber Inc.

160. National Forest Products Ltd.

161. Nicholson and Cates Ltd.

162. NorSask Forest Products Inc.; NorSask Forest Products Limited Partnership ²¹

²¹ In the Initiation Notice, Commerce inadvertently listed separately NorSask Forest Products Inc. and NorSask Forest Products Limited Partnership. See Initiation Notice, 89 at 15838. In the final results of the 2022 administrative review, Commerce listed the companies together. See Certain Softwood Lumber Products from Canada: Final Results of the Countervailing Duty Administrative Review; 2022, 89 FR 67062, 67065 (August 19, 2024) (Lumber V AR5 Final Results). To be consistent with the Lumber V AR5 Final Results, Commerce is listing the companies together in this notice.

163. North American Forest Products Ltd. (located in Abbotsford, British Columbia)

164. North Enderby Timber Ltd.

165. Northland Forest Products Ltd.

166. Oakwood Manufacturing, A Division of Weston Forest Products Inc.

167. Olympic Industries, Inc.; Olympic Industries ULC ²²

²² In the Initiation Notice, Commerce listed the following companies: Olympic Industries, Inc.; Olympic Industries Inc-Reman Code; Olympic Industries ULC; Olympic Industries ULC Reman; and Olympic Industries ULC-Reman Code. See Initiation Notice, 89 at 15838. However, in the final results of the 2022 administrative review, we noted that, on March 21, 2023, Olympic Industries, Inc. and Olympic Industries ULC (collectively, Olympic) notified Commerce that Olympic Industries Inc-Reman Code, Olympic Industries ULC-Reman, and Olympic Industries ULC-Reman Code are no longer used by Olympic to export softwood lumber to the United States. We, thus, listed the company names as “Olympic Industries, Inc.; Olympic Industries ULC.” in the notice. See Lumber V AR5 Final Results, 89 FR at 67065. Therefore, the companies subject to this review are Olympic Industries, Inc. and Olympic Industries ULC.

168. Oregon Canadian Forest Products Inc., dba Oregon Canadian Forest Products

169. Pacific Coast Cedar Products Ltd.

170. Pacific Lumber Remanufacturing Inc.

171. Pacific NorthWest Lumber Ltd.

172. Pacific Western Wood Works Ltd.

173. PalletSource Inc.

174. Parallel Wood Products Ltd.

175. Partap Forest Products Ltd.

176. Peak Industries (Cranbrook) Ltd.

177. Phoenix Forest Products Inc.

178. Pine Ideas Ltd.

179. Pioneer Pallet & Lumber Ltd.

180. Plaster Rock Lumber Corporation

181. Porcupine Wood Products Ltd.

182. Power Wood Corp.

183. Precision Cedar Products Corp.

184. Produits Forestiers Petit Paris Inc.

185. Produits Matra Inc.; Sechoirs de Beauce Inc.; Bois Ouvre de Beauceville (1992), Inc.

186. Promobois G.D.S. Inc.

187. R.A. Green Lumber Ltd.

188. RBC Timber Products

189. Rembos Inc.

190. Rene Bernard inc.

191. Resolute FP Canada Inc.; 9192-8515 Quebec Inc.; Abitibi-Bowater Canada Inc.; Bowater Canadian Ltd.; Produits Forestiers Maurice SEC.; Resolute Forest Products Inc.

192. Rielly Industrial Lumber Inc.

193. River City Remanufacturing Inc.

194. Riverside Forest Products Inc.

195. S&R Sawmills Ltd.

196. San Group

197. San Industries Ltd.

198. Sawarne Lumber Co. Ltd.

199. Scierie St-Michel Inc.

200. Scierie West Brome Inc.

201. Scott Lumber Sales Ltd.

202. Shakertown Corp.

203. Sigurdson Forest Products Ltd.

204. Sinclar Group Forest Products Ltd.

205. Skana Forest Products Ltd.

206. Skeena Sawmills Ltd.

207. South Beach Trading Inc.

208. Specialiste du Bardeau de Cedre Inc. (aka SBC)

209. Spruceland Millworks Inc.

210. Star Lumber Canada Ltd.

211. Sundher Timber Products Inc.

212. Surrey Cedar Ltd.

213. Taan Forest Limited Partnership (aka Taan Forest Products)

214. Taiga Building Products Ltd.

215. Tall Tree Lumber Company

216. Tenryu Canada Corporation

217. Terminal Forest Products Ltd.

218. TG Wood Products

219. The Wood Source Inc.

220. Tolko Industries Ltd.; Tolko Marketing and Sales Ltd.; Meadow Lake OSB Limited Partnership

221. Top Quality Lumber Ltd.

222. Trans-Pacific Trading Ltd.

223. Triad Forest Products Ltd.

224. Twin Rivers Paper Co. Inc.

225. Tyee Timber Products Ltd.

226. Universal Lumber Sales Ltd.

227. Usine Sartigan Inc.

228. Vaagen Fibre Canada, ULC

229. Vancouver Specialty Cedar Products Ltd.

230. Vancouver Urban Timberworks Ltd. (aka Van Urban)

231. Vanderhoof Specialty Wood Products Ltd.

232. Vanderwell Contractors (1971) Ltd.

233. Visscher Lumber Inc.

234. W.I. Woodtone Industries Inc.

235. West Bay Forest Products Ltd.

236. Western Forest Products Inc.

237. Western Lumber Sales Limited

238. Westminster Industries Ltd.

239. Weston Forest Products Inc.

240. Westrend Exteriors Inc.

241. Weyerhaeuser Co.

242. White River Forest Products L.P.

243. Woodline Forest Products Ltd.

244. Woodstock Forest Products

245. Woodtone Specialties Inc.

[FR Doc. 2025-06099 Filed 4-8-25; 8:45 am]

BILLING CODE 3510-DS-P